ENVIRONMENTAL PROTECTION AGENCY

[EPA-HQ-OAR-2023-0137; FRL-11708-01-OMS]

Agency Information Collection Activities; Submission to the Office of Management and Budget for Review and Approval; Comment Request; New Source Performance Standards (NSPS) for Sewage Sludge Incineration Units (Renewal)

AGENCY: Environmental Protection Agency (EPA).

ACTION: Notice.

SUMMARY: The Environmental Protection Agency (EPA) has submitted an information collection request (ICR), NSPS for Sewage Sludge Incineration Units (EPA ICR Number 2369.06, OMB Control Number 2060-0658), to the Office of Management and Budget (OMB) for review and approval in accordance with the Paperwork Reduction Act. This is a proposed extension of the ICR, which is currently approved through January 31, 2024. Public comments were previously requested, via the Federal Register on May 18, 2023, during a 60-day comment period. This notice allows for an additional 30 days for public comments.

DATES: Comments may be submitted on or before March 1, 2024.

ADDRESSES: Submit your comments, referencing Docket ID Number EPA-HQ-OAR-2023-0137, to EPA online using www.regulations.gov/ (our preferred method), or by email to a-and-r-docket@epa.gov, or by mail to: EPA Docket Center, Environmental Protection Agency, Mail Code 28221T, 1200 Pennsylvania Ave. NW, Washington, DC 20460. The EPA's policy is that all comments received will be included in the public docket without change, including any personal information provided, unless the comment includes profanity, threats, information claimed to be Confidential Business Information (CBI), or other information whose disclosure is restricted by statute.

Submit written comments and recommendations to OMB for the proposed information collection within 30 days of publication of this notice to: www.reginfo.gov/public/do/PRAMain. Find this specific information collection by selecting “Currently under Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a supporting extension of this ICR, which is currently approved through January 31, 2024. An agency may neither conduct nor sponsor, and a person is not required to respond to, a collection of information unless it displays a currently valid OMB control number.

Public comments were previously requested, via the Federal Register, on July 22, 2022, during a 60-day comment period (87 FR 43843) and May 18, 2023 (88 FR 31748). This notice allows for an additional 30 days for public comments. Supporting documents, which explain in detail the information that the EPA will be collecting, are available in the public docket for this ICR. The docket can be viewed online at www.regulations.gov, or in person at the EPA Docket Center, WJC West Building, Room 3334, 1301 Constitution Ave. NW, Washington, DC. The telephone number for the Docket Center is 202-566-1744. For additional information about EPA's public docket, visit http://www.epa.gov/dockets.

Abstract: The New Source Performance Standards for Sewage Sludge Incineration Units (40 CFR part 60, subpart LLLL) were proposed on October 14, 2010; and promulgated on March 21, 2011. These regulations apply to new facilities with one or more sewage sludge incineration (SSI) units. New facilities are those that either commenced construction after October 14, 2010, or commenced modification after September 21, 2011. Physical or operational changes made to the SSI unit to comply with the SSI Emission Guidelines at 40 CFR part 60, subpart MMMM do not qualify as a modification under this NSPS. This information is being collected to assure compliance with 40 CFR part 60, subpart LLLL.

Form Numbers: None.

Respondents/affected entities: Sewage Sludge Incinerators.

Respondent's obligation to respond: Mandatory (40 CFR part 60, subpart LLLL).

Estimated number of respondents: 11 (total).

Frequency of response: Semiannual, annual.

Total estimated burden: 1,800 hours (per year). Burden is defined at 5 CFR 1320.3(b).

Total estimated cost: $1,950,000 (per year), which includes $1,850,000 in annualized capital/startup and/or operation & maintenance costs.

Changes in the Estimates: The increase in burden from the most-recently approved ICR is due to an increase in the number of new or modified sources. There is also an increase in costs due to the use of updated labor rates. This ICR uses labor rates from the most-recent Bureau of Labor Statistics report (September 2022) to calculate respondent burden costs. This ICR also adjusts the capital/startup and operation and maintenance costs from 2008 to 2022 values using the CEPCI CE Index.

Courtney Kerwin,
Director, Regulatory Support Division.

[FR Doc. 2024-01807 Filed 1-30-24; 8:45 am]

BILLING CODE 6560-50-P